COMMODITY FUTURES TRADING COMMISSION

Reestablishment of the Technology Advisory Committee

AGENCY: Commodity Futures Trading Commission.

ACTION: Notice of Federal Advisory Committee Reestablishment.

SUMMARY: The Commodity Futures Trading Commission has determined to reestablish the charter of its Technology Advisory Committee.

FOR FURTHER INFORMATION CONTACT: Martin B. White, Committee Management Officer, at 202-418-5129. Written comments should be submitted to David A. Stawick, Secretary, Commodity Futures Trading Commission, Three Lafayette Centre, 1155 21st Street, NW., Washington, DC 20581. Electronic comments may be submitted to shumenik@cftc.gov.

SUPPLEMENTARY INFORMATION: The Commodity Futures Trading Commission (“Commission”) has determined to reestablish its Technology Advisory Committee. The Commission has determined that the reestablishment of the advisory committee is in the public interest in connection with the duties imposed on the Commission by the Commodity Exchange Act, 7 U.S.C. 1-25, as amended. The Technology Advisory Committee will operate for two years from the date it is reestablished unless, before the expiration of that time period, its charter is renewed in accordance with section 14(a)(2) of the Federal Advisory Committee Act, or the Chairman of the Commission, with the concurrence of the other Commissioners, shall direct that the advisory committee terminate on an earlier date.

The purpose of the Technology Advisory Committee is to conduct public meetings, to submit reports and recommendations to the Commission, and to otherwise assist the Commission in identifying and understanding how new developments in technology are being applied and utilized in the industry, and their impact on the operation of the markets. The committee will allow the Commission to be an active participant in market innovation, explore the appropriate investment in technology, and advise the Commission on the need for strategies to implement rules and regulations to support the Commission's mission of ensuring the integrity of the markets. Meetings of the Technology Advisory Committee are public.

The Technology Advisory Committee may be reestablished 15 days after publication of this notice by filing a reestablishment charter with the Commission; the Senate Committee on Agriculture, Nutrition and Forestry; the House Committee on Agriculture; the Library of Congress; and the General Services Administration's Committee Management Secretariat. A copy of the reestablishment charter also will be posted on the Commission's Web site at http://www.cftc.gov.

Issued in Washington, DC, on May 19, 2010, by the Commission.
David A. Stawick,
Secretary of the Commission.

[FR Doc. 2010-13184 Filed 6-1-10; 8:45 am]

BILLING CODE P